INTERNATIONAL TRADE COMMISSION

[Investigation Nos. 731-TA-1374-1376 (Review)]

Citric Acid and Certain Citrate Salts From Belgium, Colombia, and Thailand; Cancellation of Hearing for Full Five-Year Reviews

AGENCY: International Trade Commission.

ACTION: Notice.

DATES: May 13, 2024.

FOR FURTHER INFORMATION CONTACT: Celia Feldpausch ((202) 205-2387), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for these reviews may be viewed on the Commission's electronic docket (EDIS) at http://edis.usitc.gov.

SUPPLEMENTARY INFORMATION: On November 15, 2023, the Commission established a schedule for the conduct of the full five-year reviews (88 FR 81100, November 21, 2023). On May 8, 2024, counsel for Archer-Daniels-Midland Company (“ADM”), Cargill, Incorporated (“Cargill”), and Primary Products Ingredients Americas LLC (“Primient”) (collectively, the “domestic interested parties”) filed a request to appear at the hearing. No other party submitted a request to appear at the hearing. On May 9, 2024, counsel for the domestic interested parties filed a request that the Commission cancel the scheduled hearing for these reviews given the lack of respondent interested party participation. Counsel indicated a willingness to submit written responses to any Commission questions. Consequently, the public hearing in connection with these reviews, scheduled to begin at 9:30 a.m. on Thursday, May 16, 2024, is cancelled. Parties to these reviews should respond to any written questions posed by the Commission in their posthearing briefs, which are due to be filed on May 28, 2024.

For further information concerning these reviews see the Commission's notice cited above and the Commission's Rules of Practice and Procedure, part 201, subparts A and B (19 CFR part 201), and part 207, subparts A, D, E, and F (19 CFR part 207).

Authority: These reviews are being conducted under authority of title VII of the Tariff Act of 1930; this notice is published pursuant to section 207.62 of the Commission's rules.

By order of the Commission.
Issued: May 14, 2024.
Lisa Barton,
Secretary to the Commission.

[FR Doc. 2024-10929 Filed 5-20-24; 8:45 am]

BILLING CODE 7020-02-P